DEPARTMENT OF DEFENSE

Office of the Secretary

Defense Advisory Committee on Investigation, Prosecution, and Defense of Sexual Assault in the Armed Forces; Notice of Federal Advisory Committee Meeting; Correction

AGENCY: General Counsel of the Department of Defense (DoD), Defense Advisory Committee on Investigation, Prosecution, and Defense of Sexual Assault in the Armed Forces, Department of Defense.

ACTION: Notice of Federal Advisory Committee meeting; correction.

SUMMARY: On Friday, August 10, 2018, the Department of Defense published a notice titled “Defense Advisory Committee on Investigation, Prosecution, and Defense of Sexual Assault in the Armed Forces; Notice of Federal Advisory Committee Meeting.” In that notice, the waiver language in the first paragraph of the SUPPLEMENTARY INFORMATION section contains incorrect references to the Defense Business Board and an incorrect meeting date. This notice corrects those errors. All other information in the notice of August 10, 2018 remains the same.

DATES: This correction is effective on August 16, 2018.

FOR FURTHER INFORMATION CONTACT: Patricia Toppings, 571-372-0485.

SUPPLEMENTARY INFORMATION: On Friday, August 10, 2018 (83 FR 39730-39731), DoD published a notice titled “Defense Advisory Committee on Investigation, Prosecution, and Defense of Sexual Assault in the Armed Forces; Notice of Federal Advisory Committee Meeting” that contained incorrect references to the Defense Business Board and an incorrect meeting date in the first paragraph of the SUPPLEMENTARY INFORMATION section. The corrected waiver language is included in its entirety in the next paragraph.

Due to circumstances beyond the control of the Department of Defense (DoD) and the Designated Federal Officer, the Defense Advisory Committee on Investigation, Prosecution, and Defense of Sexual Assault in the Armed Forces was unable to provide public notification required by 41 CFR 102-3.150(a) concerning its meeting on August 23, 2018. Accordingly, the Advisory Committee Management Officer for the Department of Defense, pursuant to 41 CFR 102-3.150(b), waives the 15-calendar day notification requirement.

Dated: August 13, 2018.
Aaron T. Siegel,
Alternate OSD Federal Register Liaison Officer, Department of Defense.

[FR Doc. 2018-17660 Filed 8-15-18; 8:45 am]

BILLING CODE 5001-06-P